DEPARTMENT OF ENERGY

Federal Energy Regulatory Commission

[Docket No. RP04-23-001]

Gas Transmission Northwest Corporation; Notice of Compliance Filing

November 14, 2003.

Take notice that on November 7, 2003, Gas Transmission Northwest Corporation (GTN) tendered for filing various tariff sheets to incorporate into Third Revised Volume No. 1-A, sheets that have recently been approved by the Commission in GTN's superseded FERC Gas Tariff, Second Revised Volume No. 1-A.

GTN states that it recently replaced Second Revised Volume No. 1-A with Third Revised Volume No. 1-A in order to reflect a corporate name change. GTN requests that the Commission accept the above-referenced tariff sheets to be effective on the latter of the date Third Revised Volume No. 1-A became effective or the date the Commission accepted the sheets in the superseded tariff.

GTN further states that a copy of this filing has been served on GTN's jurisdictional customers and interested state regulatory agencies.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00350 Filed 11-20-03; 8:45 am]

BILLING CODE 6717-01-P